DEPARTMENT OF EDUCATION

34 CFR Parts 412, 415, 421, 425, 427, 428, and 429

RIN 1830-AA24, 1830-AA25, 1830-AA26, 1830-AA27, 1830-AA28, 1830-AA29, and 1830-AA30

[Docket ID ED-2018-OCTAE-0071]

Outdated and Superseded Regulations—Career and Technical Education National Programs

AGENCY: Office of Career, Technical, and Adult Education, Department of Education.

ACTION: Final regulations.

SUMMARY: The Secretary removes outdated, superseded regulations for seven programs in the State Vocational and Applied Technology Education Programs and National Discretionary Programs of Vocational Education added by a final rule in the Federal Register on August 14, 1992 (Perkins 1992 Regulations) as authorized under the Carl D. Perkins Vocational and Applied Technology Act of 1990 (Perkins II), Title IV National Programs. These programs are no longer funded by the Department.

DATES: Effective September 21, 2018.

FOR FURTHER INFORMATION CONTACT: Hugh Reid, U.S. Department of Education, 400 Maryland Avenue SW, Room 11114 PCP, Washington, DC 20202-2500. Telephone: (202) 245-7491. Email: Hugh.Reid@ed.gov.

If you use a telecommunications device for the deaf (TDD) or a text telephone (TTY), call the Federal Relay Service (FRS), toll free at 1-800-877-8339.

SUPPLEMENTARY INFORMATION: On February 24, 2017, President Trump signed Executive Order 13777, “Enforcing the Regulatory Reform Agenda,” which established a Federal policy “to alleviate unnecessary regulatory burdens” on the American people. Section 3(a) of the Executive Order directed each Federal agency to establish a regulatory reform task force, the duty of which is to evaluate existing regulations and “make recommendations to the agency head regarding their repeal, replacement, or modification.” Accordingly, the Secretary removes 34 CFR parts 412, 415, 421, 425, 427, 428, and 429 published in the Perkins 1992 Regulations because they are outdated and have been superseded. The seven outdated and superseded programs published in the Perkins 1992 Regulations authorized under Perkins II were:

Programs | Perkins 1992 regulations 34 CFR part(s) | Perkins II authorizations 20 U.S.C.
National Network for Curriculum Coordination in Vocational and Technical Education | 412 | 2402(c).
Demonstration Centers for the Training of Dislocated Workers Program | 415 | 2413.
Business and Education Standards Program | 421 | 2416.
Demonstration Projects for the Integration of Vocational and Academic Learning Program | 425 | 2420.
Bilingual Vocational Training Program | 427 | 2441(a).
Bilingual Vocational Instructor Training Program | 428 | 2441(b) and (d)(1), (4), (5).
Bilingual Vocational Materials, Methods, and Techniques Program | * 429 | 2441(c) and (d)(1), (3).

The Perkins II Title IV National Programs focused on research and development, demonstration programs, vocational education and occupational information data systems, the national council of vocational education, and bilingual vocational training. The programs in the Perkins 1992 Regulations aligned with the Perkins II Title IV National Programs, including the seven programs in this notice. The Title IV National Programs of Perkins II (which authorized the programs in the Perkins 1992 Regulations), were not included in the Carl D. Perkins Vocational and Technical Education Act of 1998 (Perkins III). Similarly, the Carl D. Perkins Career and Technical Education Act of 2006 (Perkins IV) did not include the National Programs from Title IV of Perkins II. Instead of reauthorizing Title IV National Programs of Perkins II in Perkins III and Perkins IV, section 114(c)(3) of Perkins III and section 114(c)(1) of Perkins IV authorizes the Department to provide support directly or through grants, contracts, or cooperative agreements, for research, development, dissemination, evaluation, assessment, capacity-building, and technical assistance activities aimed at improving the quality and effectiveness of career and technical education programs authorized under Perkins. Under section 114(c)(3) of Perkins III and currently under section 114(c)(1) of Perkins IV, discretionary grants are awarded on a competitive basis that includes a review of selection criteria published in the grant award notice inviting applications in the Federal Register and evaluated by impartial panels (see section 114(d)(2)(A) of Perkins IV). These requirements in Perkins III and Perkins IV have superseded the Perkins 1992 Regulations for the seven programs. Because the seven programs were not included in Perkins III or Perkins IV, were superseded by Perkins III and IV, and are no longer funded, the regulations for the seven programs in 34 CFR parts 412, 415, 421, 425, 427, 428 and 429 are obsolete and outdated, and we are rescinding those regulations.

Waiver of Proposed Rulemaking

Under the Administrative Procedures Act (5 U.S.C. 553) (APA), the Department generally offers interested parties the opportunity to comment on proposed regulations. However, the APA provides that an agency is not required to conduct notice-and-comment rulemaking when the agency, for good cause, finds that the requirement is impracticable, unnecessary, or contrary to the public interest (5 U.S.C. 553(b)(B) and (d)(3)). There is good cause to waive rulemaking in this case because this final regulatory action merely removes regulations that are superseded by statute and, therefore, outdated and unnecessary. This regulatory action adopts no new regulations and does not establish or affect substantive policy. Therefore, under 5 U.S.C. 553(b)(B), the Secretary has determined that proposed regulations are unnecessary, and, thus, waives notice and comment rulemaking.

The APA also requires that regulations be published at least 30 days before their effective date, unless the agency has good cause to implement its regulations sooner (5 U.S.C. 553(d)(3)). Again, because the final regulations merely reflect statutory changes and remove outdated or unnecessary regulatory provisions, the Secretary also has good cause to waive the 30-day delay in the effective date of these regulatory changes under 5 U.S.C. 553(d)(3).

Executive Orders 12866, 13563, and 13771

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This regulatory action is not a significant regulatory action subject to review by OMB under section 3(f) of Executive Order 12866.

Under Executive Order 13771, for each new regulation that the Department proposes for notice and comment or otherwise promulgates that is a significant regulatory action under Executive Order 12866 and that imposes total costs greater than zero, it must identify two deregulatory actions. For FY 2018, any new incremental costs associated with a new regulation must be fully offset by the elimination of existing costs through deregulatory actions. Because this final rule is not a significant regulatory action, the requirement to offset new regulations in Executive Order 13771 does not apply.

We have also reviewed these regulations under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor their regulations to impose the least burden on society, consistent with obtaining regulatory objectives and taking into account—among other things, and to the extent practicable—the costs of cumulative regulations;

(3) In choosing among alternative regulatory approaches, select those approaches that maximize net benefits (including potential economic, environmental, public health and safety, and other advantages; distributive impacts; and equity);

(4) To the extent feasible, specify performance objectives, rather than specifying the behavior or manner of compliance that regulated entities must adopt; and

(5) Identify and assess available alternatives to direct regulation, including providing economic incentives—such as user fees or marketable permits—to encourage the desired behavior, or provide information that enables the public to make choices.

Executive Order 13563 also requires an agency “to use the best available techniques to quantify anticipated present and future benefits and costs as accurately as possible.” The office of Information and Regulatory Affairs of OMB has emphasized that these techniques may include “identifying changing future compliance costs that might result from technological innovation or anticipated behavioral changes.”

We are issuing this regulatory action only upon a reasoned determination that its benefits justify its costs. In choosing among alternative regulatory approaches, we selected the approach that maximizes net benefits. Based on the analysis that follows, the Department believes that these regulations are consistent with the principles in Executive Order 13563.

We also have determined that this regulatory action would not unduly interfere with State, local, and Tribal governments in the exercise of their governmental functions.

Need for the Regulatory Action

This regulatory action is necessary to comply with Executive Order 13777 and to remove outdated and superseded regulations from the Code of Federal Regulations.

Analysis of Costs and Benefits

This regulatory action is a benefit to the public, grant recipients, and the Department as the action will remove any confusion that might be caused by maintaining outdated and superseded regulations in the CFR.

The Department has also analyzed the costs of this regulatory action and has determined that it will impose no additional costs ($0). As detailed earlier, this regulatory action removes outdated and superseded regulations for seven programs.

Regulatory Flexibility Act Certification

Pursuant to 5 U.S.C. 601(2), the Regulatory Flexibility Act applies only to rules for which an agency publishes a general notice of proposed rulemaking. The Regulatory Flexibility Act does not apply to this rulemaking because there is good cause to waive notice and comment under 5 U.S.C. 553.

Paperwork Reduction Act of 1995

This rule does not contain any information collection requirements. The previously OMB-approved information collection (OMB Control Number 1830-0013) associated with 34 CFR parts 412, 415, 421, 425, 427, 428, and 429 is no longer an active information collection, was last used with the Application for Vocational Education Direct Grants, and expired on March 31, 2001.

Intergovernmental Review

Some of these programs are subject to Executive Order 12372 and the regulations in 34 CFR part 79. One of the objectives of the Executive order is to foster an intergovernmental partnership and a strengthened federalism. The Executive order relies on processes developed by State and local governments for coordination and review of proposed Federal financial assistance.

Accessible Format: Individuals with disabilities can obtain this document in an accessible format (e.g., Braille, large print, audiotape, or compact disc) on request to the contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

List of Subjects

34 CFR Part 412

Grant programs—education, Reporting and recordkeeping requirements, Vocational education.

34 CFR Part 415

Educational facilities, Grant programs—education, Nonprofit organizations, Reporting and recordkeeping requirements, Vocational education.

34 CFR Part 421

Business and industry, Grant programs—education, Labor unions, Reporting and recordkeeping requirements, Vocational education.

34 CFR Part 425

Business and industry, Grant programs—education, Labor unions, Reporting and recordkeeping requirements, Vocational education.

34 CFR Part 427

Bilingual education, Grant programs—education, Reporting and recordkeeping requirements, Vocational education.

34 CFR Part 428

Grant programs—education, Reporting and recordkeeping requirements, Teachers, Vocational education.

34 CFR Part 429

Bilingual education, Education research, Grant programs—education, Reporting and recordkeeping requirements, Vocational education.

Dated: September 18, 2018.
Scott Stump,
Assistant Secretary for Career, Technical, and Adult Education.

For the reasons discussed in the preamble, and under the authority of section 414 of the Department of Education Organization Act, 20 U.S.C. 3474, and section 437 of the General Education Provisions Act (20 U.S.C. 1221e-3) the Secretary of Education amends chapter III of title 34 of the Code of Federal Regulations as follows:

PART 412—[REMOVED AND RESERVED]

1. Part 412 is removed and reserved.

PART 415—[REMOVED AND RESERVED]

2. Part 415 is removed and reserved.

PART 421—[REMOVED AND RESERVED]

3. Part 421 is removed and reserved.

PART 425—[REMOVED AND RESERVED]

4. Part 425 is removed and reserved.

PART 427—[REMOVED AND RESERVED]

5. Part 427 is removed and reserved.

PART 428—[REMOVED AND RESERVED]

6. Part 428 is removed and reserved.

PART 429—[REMOVED AND RESERVED]

7. Part 429 is removed and reserved.

[FR Doc. 2018-20589 Filed 9-20-18; 8:45 am]

BILLING CODE 4000-01-P